DEPARTMENT OF ENERGY

Federal Energy Regulatory Commission

[Docket No. EL00-62-035]

ISO New England Inc.; Notice of Filing

October 3, 2001.

Take notice that on September 27, 2001, ISO New England Inc. (the ISO) submitted for filing amendments under Section 205 of the Federal Power Act to the Special Interim Market Rule originally filed with the Commission on November 1, 2000.

Copies of said filing have been served upon the Secretary of the NPC, the Participants in the New England Power Pool, and upon the New England State Governors and Regulatory Commissions.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before October 29, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25362 Filed 10-9-01; 8:45 am]

BILLING CODE 6717-01-P